DEPARTMENT OF COMMERCE

National Oceanic and Atmospheric Administration

[I.D. 111300D]

Gulf of Mexico Fishery Management Council; Public Meeting

AGENCY: National Marine Fisheries Service (NMFS), National Oceanic and Atmospheric Administration (NOAA), Commerce.

ACTION: Notice of public meeting.

SUMMARY: The Gulf of Mexico Fishery Management Council will convene a public meeting of the Reef Fish Stock Assessment Panel (RFSAP).

DATES: The meeting will begin on Monday, December 4, 2000, at 9 a.m. through Friday, December 8, 2000, concluding at 12 p.m.

ADDRESSES: The meeting will be held at the National Marine Fisheries Service Southeast Fisheries Science Center (SEFSC), 75 Virginia Beach Drive, Miami, Florida.

Council address: Gulf of Mexico Fishery Management Council, 3018 U.S. Highway 301 North, Suite 1000, Tampa, FL 33619; telephone 813-228-2815.

FOR FURTHER INFORMATION CONTACT: Steven Atran, Population Dynamics Statistician, Gulf of Mexico Fishery Management Council, telephone: 813-228-2815.

SUPPLEMENTARY INFORMATION: The RFSAP is composed of biologists who are trained in the specialized field of population dynamics. They advise the Council on the status of stocks and, when necessary, recommend a level of allowable biological catch (ABC) needed to prevent overfishing, or to effect a recovery of an overfished stock. They may also recommend catch restrictions needed to attain management goals.

The RFSAP will convene to review sensitivity analyses of the 1999 red grouper stock assessment which was conducted by the NMFS at the request of the RFSAP, and recommend a range of ABC for 2001. The analyses were requested by the RFSAP at its previous meeting in August 2000 to examine the sensitivity of stock assessment results to the inclusion or exclusion of older, and possibly questionable, landings data provided by Cuba for years prior to 1976; the assumed level of release mortality of undersized fish; and the shape of the red grouper stock-recruitment relationship. NMFS has completed the analyses and declared the Gulf of Mexico stock of red grouper to be overfished, based on the 1999 stock assessment, and the results of the additional analyses. However, a peer review of the analyses has not yet been conducted by the RFSAP. The severity of the overfished condition, and the ABC range needed to effect a recovery also have yet to be determined.

Pending completion by NMFS of additional analyses requested by the RFSAP of the 1998 vermilion snapper assessment and 2000 assessment update, the RFSAP will review these analyses and may recommend a range of ABC for 2001 to stop overfishing from occurring in the vermilion snapper fishery. Some model scenarios from the 1998 stock assessment suggested that the stock was being fished at a rate that could result in it becoming overfished. It was, therefore, classified by NMFS as not overfished but approaching an overfished condition. The analyses requested by the RFSAP were to examine the robustness and relationship of the vermilion snapper assessment tuning indices to changes in the directed fishery for red snapper.

The RFSAP may also review the results of additional red snapper recovery projections conducted by NMFS at the request of the Council. These additional projections are based on assumptions of juvenile red snapper shrimp trawl bycatch mortality and natural mortality suggested by an outside biologist which differ from the assumptions used by NMFS. The outside biologist has proposed that the shrimp trawl bycatch mortality is lower, and the natural mortality is higher, than those used in the NMFS red snapper stock assessments. The results of these analyses will initially be presented by NMFS at the November 13-17, 2000, Council meeting in Biloxi, Mississippi, and may subsequently be reviewed by the RFSAP if requested by the Council. The analyses must be peer reviewed by the RFSAP before they can be used as a basis for changing the red snapper total allowable catch.

Although non-emergency issues not on the agendas may come before the RFSAP for discussion, in accordance with the Magnuson-Stevens Fishery Conservation and Management Act (Magnuson-Stevens Act), those issues may not be the subject of formal action during these meetings. Actions of the RFSAP will be restricted to those issues specifically identified in the agendas and any issues arising after publication of this notice that require emergency action under Section 305(c) of the Magnuson-Stevens Act, provided the public has been notified of the Council's intent to take action to address the emergency.

Special Accommodations

This meeting is physically accessible to people with disabilities. Requests for sign language interpretation or other auxiliary aids should be directed to Anne Alford (see ADDRESSES) at least 5 days prior to the meeting dates.

Dated: November 14, 2000.
Bruce C. Morehead,
Acting Director, Office of Sustainable Fisheries, National Marine Fisheries Service.

[FR Doc. 00-29637 Filed 11-17-00; 8:45 am]

BILLING CODE 3510-22-S